COMMISSION ON CIVIL RIGHTS

Agenda and Notice of Public Meeting of the North Dakota Advisory Committee to the U.S. Commission on Civil Rights

Notice is hereby given, pursuant to the provisions of the rules and regulations of the U.S. Commission on Civil Rights, and the Federal Advisory Committee Act (FACA), that a Briefing and Listening Meeting of the North Dakota Advisory Committee to the Commission will convene at 9 a.m. (CDT) on Monday, September 24, 2012, at the City Commission Room, City of Fargo, 200 N. 3rd Street, Fargo, ND 58102.

The purpose of the briefing and listening meeting is to hear civil and human rights issues of concern by citizens of the state and a briefing by a state human rights coalition.

Members of the public are entitled to submit written comments; the comments must be received in the regional office within 30 days of the meeting. Written comments may be mailed to the Rocky Mountain Regional Office, U.S. Commission on Civil Rights, 999 18th Street, Suite 1380 South, Denver, CO 80202. They may be faxed to (303) 866-1050 or emailed to ebohor@usccr.gov. Persons who desire additional information may contact Malee V. Craft, Regional Director, Rocky Mountain Regional Office at (303) 866-1040.

Records generated from this meeting may be inspected and reproduced at the Rocky Mountain Regional Office, as they become available, both before and after the meeting. Persons interested in the work of this advisory committee are advised to go to the Commission's Web site, www.usccr.gov, or to contact the Rocky Mountain Regional Office at the above email, street address, or telephone number.

Deaf or hearing-impaired persons who will attend the meeting and require the services of a sign language interpreter should contact the Rocky Mountain Regional Office at least ten (10) working days before the scheduled date of the meeting.

To ensure that the Commission secures an appropriate number of telephone lines for the public, persons are asked to contact the Rocky Mountain Regional Office 10 days before the meeting date either by email at ebohor@usccr.gov or by phone.

The meeting will be conducted pursuant to the provisions of the rules and regulations of the Commission and FACA.

Dated in Washington, DC, on September 5, 2012.
Peter Minarik,
Acting Chief, Regional Programs Coordination Unit.

[FR Doc. 2012-22193 Filed 9-7-12; 8:45 am]

BILLING CODE 6335-01-P